SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or emailed to the individuals at the addresses and fax numbers listed below:

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Request for Review of Hearing Decision/Order—20 CFR 404.967-404.981, 416.1467-416.1481—0960-0277. The HA-520 is needed in order to afford claimants their statutory right under the Social Security Act and implementing regulations to request review of an Administrative Law Judge's (ALJ) hearing decision or dismissal of a hearing request on title II and title XVI claims. An individual may request Appeals Council review by filing a written request. A completed HA-520 ensures that SSA receives the information necessary to establish that the claimant filed the request for review within the prescribed time, and that the claimant has completed the requisite steps to permit review by the Appeals Council. The Appeals Council also uses the information to document the claimant's reason(s) for disagreeing with the ALJ' s decision or dismissal, to determine whether the claimant has additional evidence to submit, and to determine whether the claimant has a representative or wants to appoint one. The respondents are claimants requesting review of an ALJ's decision or dismissal of hearing on Social Security.

Type of Request: Revision of an OMB-approved information collection.

Number of Respondents: 100,000.

Frequency of Response: 1.

Average Burden Per Response: 10 minutes.

Estimated Annual Burden: 16,667 hours.

2. Epidemiological Research Report—20 CFR 401.165—0960-0701. Section 311 of the Social Security Independence and Program Improvements Act of 1994 directed SSA to provide support to health researchers involved in epidemiological research. Specifically, when a study is determined to contribute to a national health interest, SSA will furnish information to determine whether a study subject is shown on the SSA administrative records as being alive or deceased (vital status). SSA will recoup all expenses incurred in providing this information. Web-posted questions solicit the information SSA needs to provide the data and to collect the fees. The requestors are scientific researchers who are applying to receive vital status information about individuals from Social Security administrative data records.

Type of Request: Extension of an OMB-approved information collection.

Number of Respondents: 30.

Frequency of Response: 1.

Average Burden Per Response: 120 minutes.

Estimated Annual Burden: 60 hours.

3. Work Activity Report (Self-Employed Person)—20 CFR 404.1520(b), 404.1571-404.1576, 404.1584-404.1593, and 416.971-416.976—0960-0598. The information on Form SSA-820-F4 is used by SSA to determine initial or continuing eligibility for Supplemental Security Income (SSI) or Social Security disability benefits. Under titles II and XVI of the Act, applicants for disability benefits must prove an inability to perform any kind of Substantial Gainful Activity (SGA) generally available in the national economy for which they might be expected to qualify on the basis of age, education, and work experience. SSA needs to secure information about this work in order to ascertain whether the applicant was (or is) engaging in SGA. Work after a claimant becomes entitled can cause the cessation of disability benefits. The information obtained from form SSA-820-F4 is needed to determine if a cessation of benefits should occur. The respondents are applicants and claimants for SSI or Social Security disability benefits.

Type of Request: Extension of an OMB-approved information collection.

Number of Respondents: 100,000.

Frequency of Response: 1.

Average Burden Per Response: 30 minutes.

Estimated Annual Burden: 50,000 hours

4. Student Reporting Form—20 CFR 404.352(b)(2), 404.368, 404.415, 404.434, 422.135—0960-0088. The information collected by form SSA-1383 is used by SSA to determine the impact of reported events on Social Security student beneficiaries' continuing entitlement to these benefits.

Type of Request: Extension of an OMB-approved information collection.

Number of Respondents: 75,000.

Frequency of Response: 1.

Average Burden Per Response: 6 minutes.

Estimated Annual Burden: 7,500 hours.

5. Electronic Death Registration (EDR)—20 CFR 404.301; 404.310-311; 404.316; 404.330-341;404.350-352; and 404.371; 416.912—0960-0700. SSA has contracted with the States to obtain death certificate information in order to compare it to SSA's payment files. This match ensures the accuracy of our payment files by detecting unreported or inaccurate dates of deaths of beneficiaries. Entitlement to retirement, disability, wife's, husband's or parent's benefits under the provisions of the Social Security Act terminates when the beneficiary dies.

Type of Request: Extension of an OMB-approved information collection.

Collection format | Number of respondents | Frequency of responses | Average cost per record request | Estimated annual cost burden
State Death Match—Manual Process | 35 | 50,000 per State | $0.72 | $1,260,000
State Death Match—Electronic Death Registration (EDR) | 18 | 50,000 per State | 2.58 | 2,322,000
Totals | 53 |  |  | 3,582,000

Estimated Annual Cost for all respondents:

**Please note that both of these data matching processes are entirely electronic and there is no hourly burden for the respondent to provide this information. The cost burdens are based on the four cost components incurred by the respondents:

—software

—hardware

—average annual salaries of database management personnel

—average annual salaries of support personnel

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Request for Evidence from Doctor or Hospital—20 CFR 404 Subpart I and 20 CFR 416 Subpart P—0960-0722. Claimants are required to provide medical evidence of their impairment(s) in pursuing a disability claim under titles II and XVI of the Social Security Act. The HA-66 and HA-67 will be used by adjudicators of the Office of Disability Adjudication and Review (ODAR), the component of the Social Security Administration (SSA) that oversees the Administrative Law Judge (ALJ) hearing level. The letters will be used to request medical evidence from medical and other sources the claimant identifies as having information relative to his or her impairments or ability to do work-related activities. The respondents are doctors and hospitals where the claimant has been evaluated.

Type of Request: Revision of an OMB-approved information collection.

Form type | Number of respondents | Frequency of response | Average burden per response (minutes) | Estimated annual burden (hours)
Request for Evidence from a Doctor (HA-66) | 10,000 | 20 | 15 | 50,000
Request for Evidence from a Hospital (HA-67) | 10,000 | 20 | 15 | 50,000
Totals | 20,000 |  |  | 100,000

2. Development for Participation in a Vocational Rehabilitation or Similar Program—20 CFR 404.316(c), 404.337(c), 404.352(d), 404.1586(g), 404.1596, 404.1597(a), 404.327, 404.328, and 416.1338(c) and (d) 416.1320(d), 416.1331(a)-(b), and 416.1338-0960-0282. State Disability Determination Services must determine if a recipient of disability benefits whose disability has ceased but who is enrolled in a vocational rehabilitation program can continue to receive SSA benefits. To do this, information is needed about the beneficiary, the type of program he/she is enrolled in, and the types of services the beneficiary is receiving under the auspices of that program. Form SSA-4290 is used to collect this information. The respondents are State employment networks, vocational rehabilitation agencies, or other providers of education/job training services.

Type of Request: Extension of an OMB-approved information collection.

Number of Respondents: 3,000.

Frequency of Response: 1

Average Burden Per Response: 15 minutes.

Estimated Annual Burden: 750 hours.

3. Medical Report (Individual with Childhood Impairment)—20 CFR 404.1512-.1515 and 416.912-.915 & 20 CFR 422.125—0960-0102. The information collected on form SSA-3827 is used by SSA to determine the childhood claimant's physical status prior to making a disability determination and to document the childhood disability claims folder with the medical evidence. The respondents are members of the medical community, and include physicians, hospital directors, medical records librarians, and other medical personnel.

Type of Request: Revision of an OMB-approved information collection.

Number of Respondents: 12,000.

Frequency of Response: 1.

Average Burden per Response: 30 minutes.

Estimated Annual Burden: 6,000 hours.

4. Disability Hearing Officer's Report of Disability Hearing (DC)—SSA-1204-BK—0906-0507. The information collected on form SSA-1204-BK is used by the Disability Hearing Officer (DHO) to conduct and document disability hearings, and to provide a structured format that covers all conceivable issues relating to SSI claims for disabled children. The completed SSA-1204-BK will aid the DHO in preparing the disability decision and will provide a record of what transpired in the hearing. The respondents are DHO's in the State Disability Determination Services.

Type of Request: Extension of an OMB-approved information collection.

Number of Respondents: 2,000.

Frequency of Response: 1.

Average Burden per Response: 60 minutes.

Estimated Annual Burden: 2,000 hours.

5. Application for Help with Medicare Prescription Drug Plan Costs—20 CFR 418.3101—0960-0696. Medicare Part D, codified in 20 CFR 418, provides voluntary prescription drug coverage of premium, deductible, and co-payment costs for certain low-income individuals. As per 20 CFR 418.3101, beneficiaries who meet eligibility criteria may receive help with these Medicare Part D costs. The Social Security Administration, which helps to administer the subsidy program, uses form SSA-1020 (the Application for Help with Medicare Prescription Drug Plan Costs) and its online equivalent, the i1020, to collect information that will be used to make Medicare Part D subsidy determinations. The respondents are eligible beneficiaries who want to apply for help with Medicare Part D costs.

Type of Request: Extension of an OMB-approved information collection.

| Number of respondents | Frequency of response | Average burden per response (minutes) | Estimated annual burden (hours)
SSA-1020 (paper application form) | 2,545,716 | 1 | 35 | 1,485,001
i1020 (online equivalent) | 380,394 | 1 | 45 | 285,296
Totals | 2,926,110 |  |  | 1,770,297

Notes: (1) When SSA published the 60-day Notice for this collection on September 14, 2007 at 72 FR 52594, we described this as a revision. However, since that time OMB has determined that our proposed revisions were non-substantive in nature and has approved them. We are therefore now listing this collection as an extension. A list of the non-substantive changes SSA made are available if the public requests them. (2) The number of respondents completing the i1020 is greater and the number of respondents using the paper SSA-1020 is less than the numbers reported in the 60-day Federal Register Notice for this collection. The reason for this change is that SSA received updated data on the percentage of respondents using the i1020 since the 60-day Federal Register Notice published.

6. Appeal of Determination for Help with Medicare Prescription Drug Plan Costs—0960-0695. The Medicare Prescription Drug, Improvement, and Modernization Act of 2003 (Pub. L. 108-173; MMA) established a new Medicare Part D program for voluntary prescription drug coverage for premium, deductible and cost-sharing subsidies for certain low-income individuals. The MMA stipulates that subsidies must be available for individuals who are eligible for the program and who meet eligibility criteria for help with premium, deductible, and/or co-payment costs. Form SSA-1021, the Appeal of Determination for Help with Medicare Prescription Drug Plan Costs, was developed to obtain information from individuals who appeal SSA's decisions regarding eligibility or continuing eligibility for a Medicare Part D subsidy. The respondents are applicants who are appealing SSA's eligibility or continuing eligibility decisions.

Type of Request: Extension of an OMB-approved information collection.

Number of Respondents: 75,000.

Frequency of Response: 1.

Average Burden Per Response: 10 minutes.

Estimated Annual Burden: 12,500 hours.

Dated: November 26, 2007.
Elizabeth A. Davidson,
Reports Clearance Officer, Social Security Administration.

[FR Doc. E7-23253 Filed 11-29-07; 8:45 am]

BILLING CODE 4191-02-P